INTERNATIONAL TRADE COMMISSION

[Investigation No. 337-TA-812]

Certain Computing Devices With Associated Instruction Sets and Software; Notice of Commission Determination Not To Review an Initial Determination Granting a Joint Motion To Terminate This Investigation Based on a Settlement; Termination of Investigation

AGENCY: U.S. International Trade Commission.

ACTION: Notice.

SUMMARY: Notice is hereby given that the U.S. International Trade Commission has determined not to review an initial determination (“ID”) (Order No. 18) granting a joint motion to terminate this investigation based on a settlement. The investigation is hereby terminated.

FOR FURTHER INFORMATION CONTACT: James A. Worth, Office of the General Counsel, U.S. International Trade Commission, 500 E Street SW., Washington, DC 20436, telephone (202) 205-3065. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on February 27, 2012, based upon a complaint filed on behalf of VIA Technologies, Inc. of New Taipei City, Taiwan; IP-First, LLC of Fremont, California; and Centaur Technology, Inc. of Austin, Texas (collectively, “VIA”) on September 22, 2011, as amended on October 13, 2011, and as further amended on October 31, 2011. 76 FR 70490 (November 14, 2011). The complaint alleged violations of section 337 of the Tariff Act of 1930 (19 U.S.C. 1337) in the sale for importation, importation, or sale after importation in the United States of certain computing devices with associated instruction sets and software by reason of infringement of claims 1-4, 7-10, and 26-29 of U.S. Patent No. 6,253,312; claims 1, 14, and 21 of U.S. Patent No. 6,253,311; claims 20, 27, and 30 of U.S. Patent No. 6,754,810; claims 1-3 and 10-14 of U.S. Patent No. 7,185,180; and claims 23, 24 and 28-30 of U.S. Patent No. 7,155,598. The notice of institution named as respondent Apple Inc., a/k/a Apple Computer, Inc. of Cupertino, California (“Apple”).

On November 19, 2012, VIA and Apple filed a joint motion seeking to terminate the investigation based upon a settlement agreement. On November 29, 2012, the Commission investigative attorney filed a response in support of the motion. On November 30, 2012, the administrative law judge granted the motion, finding that termination of the investigation based on a settlement between VIA and Apple does not impose any undue burdens on the public health and welfare, competitive conditions in the United States economy, the production of like or directly competitive articles in the United States, or United States consumers. No petitions for review were filed.

Having considered the record in the investigation, the Commission has determined not to review the subject ID and to terminate the investigation.

This action is taken under the authority of section 337 of the Tariff Act of 1930, as amended (19 U.S.C. 1337), and Part 210 of the Commission's Rules of Practice and Procedure (19 CFR part 210).

By order of the Commission.
Issued: January 2, 2013.
William R. Bishop,
Supervisory Hearing and Information Officer.

[FR Doc. 2013-00070 Filed 1-7-13; 8:45 am]

BILLING CODE 7020-02-P